DEPARTMENT OF THE INTERIOR

Fish and Wildlife Service

Availability of Final Revised Environmental Assessment, Management Plan, and Implementation Guidance, and a Finding of No Significant Impact for Take of Nestling American Peregrine Falcons in the Contiguous United States and Alaska for Use in Falconry

AGENCY: Fish and Wildlife Service, Interior.

ACTION: Notice of availability.

SUMMARY: This notice is to announce the availability of a Final Revised Environmental Assessment, Management Plan, and Implementation Guidance, and a Finding of No Significant Impact for take of nestling American Peregrine Falcons (Falco peregrinus anatum) for use in falconry. We published the Draft Revised Environmental Assessment in April 2003. We considered 945 comments in revising the assessment. After completion of the Final Revised Environmental Assessment, we also produced a Finding of No Significant Impact for the action.

ADDRESSES: The documents are available from the Division of Migratory Bird Management, U.S. Fish and Wildlife Service, 4401 North Fairfax Drive, Mail Stop 4107, Arlington, Virginia 22203-1610. They also are available on the Division of Migratory Bird Management Web pages at http://migratorybirds.fws.gov.

FOR FURTHER INFORMATION CONTACT: Dr. George T. Allen, Division of Migratory Bird Management, U.S. Fish and Wildlife Service, at 703-358-1714.

SUPPLEMENTARY INFORMATION: In the draft Revised Environmental Assessment, Management Plan, and Implementation Guidance (draft Revised EA) we considered six alternatives for take of nestling American peregrine falcons (Falco peregrinus anatum) in the western United States and Alaska. We accepted comment on the draft Revised EA for 60 days (68 FR 22727). We received 945 electronic or written comment letters on the draft Revised Environmental Assessment, Management Plan, and Implementation Guidance. Fifteen were from State or Federal agencies; 930 were from individuals and organizations. Thirteen agency responses favored allowing take of nestlings, and two responses were neutral. Of the individual and organization comments received, 6 opposed take of nestlings and 929 supported allowing take. We modified the Draft Revised Environmental Assessment, Management Plan, and Implementation Guidance to respond to concerns expressed by agencies, organizations, and individuals.

Having reviewed the comments on the draft, our proposed action is to allow take of up to 5 percent of the American peregrine falcon nestlings produced in the States west of 100° longitude, at the discretion of each State. We believe that this conservative level of take is appropriate for a species recently removed from the List of Endangered and Threatened Wildlife and Plants, and will have no discernible effect on the American peregrine falcon population in the western United States. Based on this assessment, I have signed a Finding of No Significant Impact for take of nestling American peregrine falcons under the conditions we evaluated.

Dated: March 1, 2004.
Steve Williams,
Director, Fish and Wildlife Service.

[FR Doc. 04-5306 Filed 3-9-04; 8:45 am]

BILLING CODE 4310-55-P